DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on January 16, 2001 [66 FR 3643-3644].

DATES: Comments must be submitted on or before November 16, 2001.

FOR FURTHER INFORMATION CONTACT: Chris Flanigan at the National Highway Traffic Safety Administration, Office of Safety Performance Standards (NPS-20), 202-366-4923. 400 Seventh Street, SW, Room 6240, Washington, DC 20590.

SUPPLEMENTARY INFORMATION:

National Highway Traffic Safety Administration

Title: 49 CFR 571.125, Warning Devices.

OMB Number: 2127-0506.

Type of Request: Extension of a currently approved collection.

Abstract: Manufacturers of warning triangles must label each device to comply with Standard No. 125. This standard establishes requirements for devices, without self-contained energy sources. Without proper deployment and use, the effectiveness of the devices may be greatly diminished, and may lead to serious injuries due to rear end collisions between moving traffic and disabled vehicles. The warning devices shall be permanently and legibly marked and also provide instructions for its erection and display.

Affected Public: Business of other for profit organizations.

Estimated Total Annual Burden:

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC.
Herman L. Simms,
Associate Administrator for Administration.

[FR Doc. 01-26158 Filed 10-16-01; 8:45 am]

BILLING CODE 4910-59-P